DEPARTMENT OF ENERGY

Federal Energy Regulatory Commission

Combined Notice of Filings #1

Take notice that the Commission received the following electric corporate filings:

Docket Numbers: EC19-105-000.

Applicants: Diamond State Generation Partners, LLC.

Description: Application for Authorization Under Section 203 of the Federal Power Act, et al. of Diamond State Generation Partners, LLC.

Filed Date: 6/20/19.

Accession Number: 20190620-5150.

Comments Due: 5 p.m. ET 7/11/19.

Take notice that the Commission received the following exempt wholesale generator filings:

Docket Numbers: EG19-140-000.

Applicants: Polaris Wind Energy LLC.

Description: Notice of Self-Certification of Exempt Wholesale Generator Status of Polaris Wind Energy LLC.

Filed Date: 6/21/19.

Accession Number: 20190621-5145.

Comments Due: 5 p.m. ET 7/12/19.

Take notice that the Commission received the following electric rate filings:

Docket Numbers: ER12-2498-019; ER12-2499-019; ER17-382-004; ER17-383-004; ER17-384-004; ER13-764-019; ER14-1927-007; ER18-1416-003; ER11-4055-009; ER12-1566-013; ER14-1548-012; ER16-1327-002; ER12-199-016; ER17-2141-002; ER17-2142-002; ER17-2385-002; ER11-3987-014; ER16-1325-002; ER16-1326-002; ER18-855-003; ER14-1775-007.

Applicants: Alpaugh 50, LLC, Alpaugh North, LLC, CED Ducor Solar 1, LLC, CED Ducor Solar 2, LLC, CED Ducor Solar 3, LLC, CED White River Solar, LLC, CED White River Solar 2, LLC, CED Wistaria Solar, LLC, Copper Mountain Solar 1, LLC, Copper Mountain Solar 2, LLC, Copper Mountain Solar 3, LLC, Copper Mountain Solar 4, LLC, Coram California Development, L.P., Great Valley Solar 1, LLC, Great Valley Solar 2, LLC, Great Valley Solar 3, LLC, Mesquite Solar 1, LLC, Mesquite Solar 2, LLC, Mesquite Solar 3, LLC, Panoche Valley Solar, LLC, SEP II, LLC.

Description: Updated Market Power Analysis for the Southwest Region of the Consolidated Edison, Inc. subsidiaries.

Filed Date: 6/20/19.

Accession Number: 20190620-5154.

Comments Due: 5 p.m. ET 8/19/19.

Docket Numbers: ER14-1421-002.

Applicants: Diamond State Generation Partners, LLC.

Description: Compliance filing: Informational Filing and Requests for Waiver and Expedited Consideration to be effective N/A.

Filed Date: 6/20/19.

Accession Number: 20190620-5117.

Comments Due: 5 p.m. ET 7/11/19.

Docket Numbers: ER16-999-008; ER18-920-003; ER11-2335-013.

Applicants: Greenleaf Energy Unit 1 LLC, Marco DM Holdings, L.L.C., Plum Point Services Company, LLC.

Description: Updated Market Power Analysis for the Southwest Region of Greenleaf Energy Unit 1 LLC, et al.

Filed Date: 6/20/19.

Accession Number: 20190620-5151.

Comments Due: 5 p.m. ET 8/19/19.

Docket Numbers: ER19-1920-001.

Applicants: Tampa Electric Company.

Description: Compliance filing: Amendment to Compliance Filing under Order Nos. 845 and 845A to be effective 5/22/2019.

Filed Date: 6/21/19.

Accession Number: 20190621-5120.

Comments Due: 5 p.m. ET 7/12/19.

Docket Numbers: ER19-2217-000.

Applicants: Avenal Park LLC.

Description: § 205(d) Rate Filing: Revisions to Market-Based Rate Tariff and Requests for Waivers to be effective 6/21/2019.

Filed Date: 6/20/19.

Accession Number: 20190620-5108.

Comments Due: 5 p.m. ET 7/11/19.

Docket Numbers: ER19-2218-000.

Applicants: Sand Drag LLC.

Description: § 205(d) Rate Filing: Revisions to Market-Based Rate Tariff and Requests for Waivers to be effective 6/21/2019.

Filed Date: 6/20/19.

Accession Number: 20190620-5109.

Comments Due: 5 p.m. ET 7/11/19.

Docket Numbers: ER19-2219-000.

Applicants: Sun City Project LLC.

Description: § 205(d) Rate Filing: Revisions to Market-Based Rate Tariff and Requests for Waivers to be effective 6/21/2019.

Filed Date: 6/20/19.

Accession Number: 20190620-5110.

Comments Due: 5 p.m. ET 7/11/19.

Docket Numbers: ER19-2220-000.

Applicants: Big Sky North, LLC.

Description: § 205(d) Rate Filing: Big Sky North, LLC Co Tenancy Agreement to be effective 6/21/2019.

Filed Date: 6/20/19.

Accession Number: 20190620-5125.

Comments Due: 5 p.m. ET 7/11/19.

Docket Numbers: ER19-2221-000.

Applicants: Avista Corporation.

Description: Compliance filing: Avista Corp OATT Request for Limited Waiver to be effective 6/21/2019.

Filed Date: 6/20/19.

Accession Number: 20190620-5126.

Comments Due: 5 p.m. ET 7/11/19.

Docket Numbers: ER19-2222-000.

Applicants: Southwest Power Pool, Inc.

Description: § 205(d) Rate Filing: 2829R3 Midwest Energy & Westar Energy Meter Agent Agreement to be effective 6/1/2019.

Filed Date: 6/21/19.

Accession Number: 20190621-5009.

Comments Due: 5 p.m. ET 7/12/19.

Docket Numbers: ER19-2223-000.

Applicants: Bolt Energy, LLC.

Description: § 205(d) Rate Filing: MBR Tariff to be effective 6/12/2019.

Filed Date: 6/21/19.

Accession Number: 20190621-5031.

Comments Due: 5 p.m. ET 7/12/19.

Docket Numbers: ER19-2224-000.

Applicants: Turtle Creek Wind Farm LLC.

Description: Baseline eTariff Filing: Reactive Power Compensation Baseline to be effective 8/20/2019.

Filed Date: 6/21/19.

Accession Number: 20190621-5032.

Comments Due: 5 p.m. ET 7/12/19.

Docket Numbers: ER19-2225-000.

Applicants: City of Dover Delaware.

Description: Petition for Limited Waiver of Tariff Deadline, et al. of the City of Dover, Delaware.

Filed Date: 6/20/19.

Accession Number: 20190620-5152.

Comments Due: 5 p.m. ET 7/11/19.

Docket Numbers: ER19-2226-000.

Applicants: Public Service Company of Colorado.

Description: § 205(d) Rate Filing: PSCo-CSU-A&R O&M-Jcksn Fllr-395-0.1.0 to be effective 6/22/2019.

Filed Date: 6/21/19.

Accession Number: 20190621-5064.

Comments Due: 5 p.m. ET 7/12/19.

Docket Numbers: ER19-2227-000.

Applicants: PacifiCorp.

Description: § 205(d) Rate Filing: UAMPS Trans IC Agmt—Purgatory Flat to be effective 6/22/2019.

Filed Date: 6/21/19.

Accession Number: 20190621-5101.

Comments Due: 5 p.m. ET 7/12/19.

Docket Numbers: ER19-2228-000.

Applicants: Antelope Expansion 2, LLC.

Description: § 205(d) Rate Filing: LGIA Co-Tenancy Agreement to be effective 6/22/2019.

Filed Date: 6/21/19.

Accession Number: 20190621-5110.

Comments Due: 5 p.m. ET 7/12/19.

Docket Numbers: ER19-2229-000.

Applicants: San Pablo Raceway, LLC.

Description: § 205(d) Rate Filing: LGIA Co-Tenancy Agreement to be effective 6/22/2019.

Filed Date: 6/21/19.

Accession Number: 20190621-5112.

Comments Due: 5 p.m. ET 7/12/19.

Docket Numbers: ER19-2230-000.

Applicants: Polaris Wind Energy LLC.

Description: Baseline eTariff Filing: Application for Market-Based Rate Authorization to be effective 8/21/2019.

Filed Date: 6/21/19.

Accession Number: 20190621-5117.

Comments Due: 5 p.m. ET 7/12/19.

Docket Numbers: ER19-2230-001.

Applicants: Polaris Wind Energy LLC.

Description: Tariff Amendment: Supplement to Application for Market-Based Rate Authorization to be effective 8/21/2019.

Filed Date: 6/21/19.

Accession Number: 20190621-5124.

Comments Due: 5 p.m. ET 7/12/19.

Docket Numbers: ER19-2231-000.

Applicants: Chief Conemaugh Power II, LLC.

Description: Baseline eTariff Filing: Market-Based Rate Application to be effective 8/21/2019.

Filed Date: 6/21/19.

Accession Number: 20190621-5122.

Comments Due: 5 p.m. ET 7/12/19.

Docket Numbers: ER19-2232-000.

Applicants: Chief Keystone Power II, LLC.

Description: Baseline eTariff Filing: Market-Based Rate Application to be effective 8/21/2019.

Filed Date: 6/21/19.

Accession Number: 20190621-5125.

Comments Due: 5 p.m. ET 7/12/19.

Docket Numbers: ER19-2233-000.

Applicants: Smoky Mountain Transmission LLC.

Description: Compliance filing: Order Nos. 845 and 845-A Compliance Filing to be effective 5/22/2019.

Filed Date: 6/21/19.

Accession Number: 20190621-5158.

Comments Due: 5 p.m. ET 7/12/19.

Take notice that the Commission received the following foreign utility company status filings:

Docket Numbers: FC19-5-000.

Applicants: I Squared Capital.

Description: Self-Certification of FC of I Squared Capital.

Filed Date: 6/20/19.

Accession Number: 20190620-5115.

Comments Due: 5 p.m. ET 7/11/19.

Docket Numbers: FC19-6-000.

Applicants: Chenya Power Co., Ltd.

Description: Self-Certification of FC of I Squared Capital.

Filed Date: 6/21/19.

Accession Number: 20190621-5035.

Comments Due: 5 p.m. ET 7/12/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 21, 2019.
Nathaniel J. Davis, Sr.,
Deputy Secretary.

[FR Doc. 2019-13718 Filed 6-26-19; 8:45 am]

BILLING CODE 6717-01-P